DEPARTMENT OF COMMERCE

National Oceanic and Atmospheric Administration

RIN 0648-XE452

Notice of Intent To Prepare an Environmental Impact Statement for Hatchery Programs Along the Oregon Coast

AGENCY: National Marine Fisheries Service (NMFS), National Oceanic and Atmospheric Administration (NOAA), Commerce.

ACTION: Notice; reopening of public comment period.

SUMMARY: On January 15, 2016, the National Marine Fisheries Service (NMFS) announced its intent to obtain information necessary to prepare an Environmental Impact Statement (EIS) for Hatchery and Genetic Management Plans (HGMPs) submitted by the Oregon Department of Fish and Wildlife (ODFW) for NMFS's evaluation and determination under Limit 5 of the Endangered Species Act (ESA) 4(d) Rule for threatened salmon and steelhead. NMFS also announced the availability of those HGMPs for public review and comment. The announcement opened a 30-day public comment period. In response to a request received from the public, based on the number of HGMPs available for review, NMFS is reopening the comment period to March 17, 2016.

DATES: Written or electronic scoping comments must be received at the appropriate address or email mailbox (see ADDRESSES) no later than 5 p.m. Pacific Time March 17, 2016.

ADDRESSES: Written comments may be sent by any of the following methods:

• Email to the following address: OregonCoastHatcheryEIS.wcr@noaa.gov with the following identifier in the subject line: Oregon Coast Hatchery EIS.

• Mail or hand-deliver to NMFS Sustainable Fisheries Division, 2900 NW Stewart Parkway, Roseburg, OR 97471.

• Fax to (541) 957-3386.

Comments received will be available for public inspection, by appointment, during normal business hours at the above address. All Personal Identifying Information (for example, name, address, etc.) voluntarily submitted by the commenter may be publicly accessible. Do not submit Confidential Business Information or otherwise sensitive or protected information.

Additional information to assist with consideration of the notice of intent, as well as the HGMPs themselves, are available on the Internet at www.westcoast.fisheries.noaa.gov.

FOR FURTHER INFORMATION CONTACT: Lance Kruzic, NMFS, by phone at (541) 957-3381, or email to lance.kruzic@noaa.gov.

SUPPLEMENTARY INFORMATION:

ESA-Listed Species Covered in This Notice

Coho salmon (O. kisutch): threatened, naturally produced and specified artificially produced stocks in the Southern Oregon/Northern California Coast and Oregon Coast Evolutionarily Significant Units (ESUs).

Background

The ODFW has submitted HGMPs for all hatchery programs along the Oregon Coast to NMFS, pursuant to Limit 5 of the 4(d) Rule for salmon and salmon promulgated under the ESA (65 FR 42422, July 10, 2000). NMFS' action of evaluating ODFW's HGMPs under Limit 5 of the 4(d) Rule is a major Federal action subject to environmental review under NEPA. Therefore, NMFS is seeking public input on the scope of the required NEPA analysis, including the range of reasonable alternatives, recommendations for relevant analysis methods, and information associated with impacts of the alternatives to the resources listed below or other relevant resources. Further, Limit 5 of the 4(d) Rule also specifies the HGMPs be made available for public review and comment prior to NMFS making a decision on the HGMPs.

For more information on the scope of the proposed hatchery programs, and NMFS' review of those programs, and a description of input being sought from the public, see the January 15, 2016, Federal Register notice (81 FR 2197). A list of the hatchery facilities being considered and links to the HGMPs for their associated hatchery programs are available on the Internet (see ADDRESSES).

Request for Comments

NMFS provides this notice to: (1) Advise other agencies and the public of its plans to analyze effects related to the action, and (2) obtain suggestions and information that may be useful to the scope of issues and the full range of alternatives to include in the EIS. Comments should be as specific as possible.

Authority

The environmental review of the Oregon Coast HGMPs will be conducted in accordance with requirements of the NEPA of 1969 as amended (42 U.S.C. 4321 et seq.), NEPA Regulations (40 CFR parts 1500-1508), other appropriate Federal laws and regulations, and policies and procedures of NMFS for compliance with those regulations. This notice is being furnished in accordance with 40 CFR 1501.7 to obtain suggestions and information from other agencies and the public on the scope of issues and alternatives to be addressed in the EIS.

Under section 4 of the ESA, the Secretary of Commerce is required to adopt such regulations as he deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422, July 10, 2000, as updated in 70 FR 37160, June 28, 2005).

Dated: February 16, 2016.
Wanda Cain,
Chief of Staff, Office of Protected Resources, National Marine Fisheries Service.

[FR Doc. 2016-03496 Filed 2-19-16; 8:45 am]

BILLING CODE 3510-22-P